ENVIRONMENTAL PROTECTION AGENCY

[ER-FRL-6696-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070471, ERP No. D-DOE-F09804-MN, Mesaba Energy Project, Proposes to Design, Construct and Operate a Coal-Based Integrated Gasification Cycle (IGCC) Electric Power Generating Facility, located in the Taconite Tax Relief Area (TTRA), Itasca and St. Louis Counties, MN.

Summary: EPA expressed environmental objections because of significant wetland impacts, and requested additional alternative analysis that might avoid/reduce wetland impacts and mitigation for unavoidable wetland impacts. Rating EO2.

EIS No. 20070504, ERP No. D-FRC-F03011-00, Rockies Express Pipeline Project, (REX-East), Construction and Operation of Natural Gas Pipeline Facilities, WY, NE, MO, IL, IN and OH.

Summary: EPA expressed environmental concerns about potential impacts to surface and ground water quality (including sole source aquifers), wetlands, air quality, and upland forest habitat. EPA requested additional information regarding impacts and mitigation measures be included in the FEIS. Rating EC2.

EIS No. 20070510, ERP No. D-FHW-C40173-NJ, I-295/I76/Route 42 Direct Connection Project, To Improve Traffic Safety and Reduce Traffic Congestion, Funding and U.S. Army COE Section 10 and 404 Permits, Borough of Bellmawr, Borough of Mount Ephraim and Gloucester City, Camden County, NJ.

Summary: EPA expressed environmental concern about wetlands impacts, stormwater impacts, air quality/mobile source air toxics impacts, and impacts from hazardous materials. Rating EC2.

EIS No. 20070533, ERP No. DA-AFS-K65286-CA, Watdog Project, Additional Clarification of Changes Between the Final EIS (2005) and Final Supplement EIS (2007), Feather River Ranger District, Plumas National Forest, Butte and Plumas Counties, CA.

Summary: EPA continues to have environmental concerns about cumulative impacts to watersheds and short-term impacts to the old-forest species present and recommends further consideration a less harvest intensive alternative, such as Alternative D. Rating EC1.

Final EISs

EIS No. 20070520, ERP No. F-FHW-C40164-NY, NY-17-Elmira to Chemung Project, Proposed Highway Reconstruction, New Highway Construction, Bridge Rehabilitation/Replacement, Funding and U.S. Army COE Section 404 Permit, Town and City of Elmira, Town of Ashland and Chemung, Chemung County, NY.

Summary: EPA's previous issues have been resolved; therefore, EPA does not object to the proposed action.

EIS No. 20070552, ERP No. F-FHW-F40437-MN, Scott County State Aid Highway (CSAH) 21 Project, Extension from CSAH 42 in Prior Lake to CSAH 18 at Southbridge Parkway in Shakopee, U.S. Army COE Section 404 Permit, Scott County, MN.

Summary: EPA's previous issues have been resolved; therefore, EPA does not object to the proposed action.

EIS No. 20080001, ERP No. F-COE-G32060-TX, Brazos Harbor Navigation District Project, Proposed Port Freeport Channel Widening to the Entrance and Jetty Reach of the Freeport Harbor Jetty Channel and Entrance, Brazoria County, TX.

Summary: No formal comment letter was sent to the preparing agency.

EIS No. 20080005, ERP No. F-NRS-H34031-00, West Tarkio Creek Watershed Plan, Construction of a Multiple-Purpose Structure for Rural Water Supply, Recreational Opportunities and Agricultural Pollution Control, Page, Montgomery and Fremont Counties, IA and Atchison County, MO.

Summary: EPA recommended that the Record of Decision contain additional discussion on the project need, alternatives analysis and cumulative impacts.

EIS No. 20080011, ERP No. F-FHW-L59002-AK, Knik Arm Crossing Project, To Provide Improved Access between the Municipality of Anchorage and Matanuska-Susitna Borough, AK.

Summary: EPA expressed environmental objections because avoidable adverse impacts to wetlands and aquatic resources. EPA also expressed concern about water quality impacts, sedimentation impacts, and air quality/air toxics impacts.

EIS No. 20080020, ERP No. F-FRC-C03016-NY, Broadwater Liquefied Natural Gas (LNG) Project, Construction and Operation a Natural Gas Pipeline Facilities, (Docket Nos. CP06-54, et al.), Long Island Sound, NY.

Summary: EPA noted that the FEIS responded to the majority of EPA's comments on the DEIS. However, EPA continues to have concerns about air quality/permitting issues.

EIS No. 20080022, ERP No. F-NOA-L91029-AK, Alaska Eskimo Whaling Commission for a Subsistence Hunt on Bowhead Whale for the Years 2008 through 2012 for Issuing Annual Quotas, Proposes to Authorize Subsistence Harvests of the Western Arctic Stock of Bowhead Whales, Bering, Chukchi and Beaufort Seas, AK.

Summary: No formal comment letter was sent to the preparing agency.

EIS No. 20080029, ERP No. F-IBR-K39048-CA, Truckee River Operating Agreement (TROA) Modify Operations of Five Federal Two Non-Federal Reservoirs to Facilitate Distribution of Water, Truckee River Basin, Alpine, El Dorado, Nevada, Placer, Sierra Counties, CA and Carson City, Churchill Douglas, Lyon, Pershing, Storey, and Washoe Counties, NV.

Summary: No formal letter sent to the preparing agency.

EIS No. 20080033, ERP No. F-BLM-K09809-CA, Truckhaven Geothermal Leasing Area, Addresses Leasing of Geothermal Resources, El Centro Field Office, Imperial County, CA.

Summary: EPA continues to have environmental concerns about potential impacts on air quality, recreational use in the OWSVRA, underestimation of geothermal capacity, and water resources.

EIS No. 20080069, ERP No. F-NPS-K61167-AZ, Saguaro National Park General Management Plan, Implementation, Rincon Mountain District and Tucson Mountain District, Pima County, AZ.

Summary: No formal letter was sent to the preparing agency.

EIS No. 20070560, ERP No. FA-NOA-K91012-00, Bottomfish and Seamount Groundfish Fisheries of the Western Pacific Region, Amendment 14 to the Fishery Management Plan, Additional Information to Analyze a Range of Management Alternatives to End Bottomfish Overfishing in the Hawaiian Archipelago, HI, GU and AS.

Summary: No formal comment letter was sent to the preparing agency.

Dated: March 4, 2008.
Robert W. Hargrove,
Director, NEPA Compliance Division, Office of Federal Activities.

[FR Doc. E8-4598 Filed 3-6-08; 8:45 am]

BILLING CODE 6560-50-P